DEPARTMENT OF HOMELAND SECURITY

Coast Guard

33 CFR Part 117

[CGD05-07-100]

RIN 1625-AA09

Drawbridge Operation Regulations: Isle of Wight Bay (Sinepuxent Bay), Ocean City, MD

AGENCY: Coast Guard, DHS.

ACTION: Notice of proposed rulemaking.

SUMMARY: The Coast Guard proposes to temporarily change the regulations that govern the operation of the US 50 Bridge across the Isle of Wight Bay (Sinepuxent Bay), at mile 0.5, in Ocean City, MD. The proposal would close the drawbridge to navigation in order to facilitate extensive rehabilitation and to maintain the bridge's operational integrity. Vessels that can pass under the bridge without a bridge opening may do so at all times.

DATES: The Coast Guard proposes closing this drawbridge to navigation beginning at 8 a.m. on January 7, 2008, through 5 p.m. on February 21, 2008. Comments and related material must reach the Coast Guard on or before December 24, 2007.

ADDRESSES: You may mail comments and related material to Commander (dpb), Fifth Coast Guard District, Federal Building, 4th Floor, 431 Crawford Street, Portsmouth, Virginia 23704-5004, or they may be hand delivered to the same address between 8 a.m. and 4 p.m., Monday through Friday, except Federal Holidays. The Commander (dpb), Fifth Coast Guard District maintains the public docket for this rulemaking. Comments and material received from the public, as well as documents indicated in this preamble as being available in the docket, will become part of this docket and will be available for inspection or copying at the above address.

FOR FURTHER INFORMATION CONTACT: Sandra S. Elliott, Bridge Management Specialist, Fifth Coast Guard District, at (757) 398-6557.

SUPPLEMENTARY INFORMATION:

Request for Comments

We encourage you to participate in this rulemaking by submitting comments and related material. If you do so, please include your name and address, identify the docket number for this rulemaking (CGD05-07-100), indicate the specific section of this document to which each comment applies, and give the reason for each comment. Please submit all comments and related material in an unbound format, no larger than 8½ by 11 inches, suitable for copying. If you would like confirmation to know if they were received, please enclose a stamped, self-addressed postcard or envelope. We will consider all comments and material received during the comment period. We may change this proposed rule in view of those comments.

Public Meeting

We do not now plan to hold a public meeting. But you may submit a request for a meeting by writing to the Commander, Fifth Coast Guard District at the address under ADDRESSES explaining why one would be beneficial. If we determine that one would aid this rulemaking, we will hold one at a time at a place announced by a later notice in the Federal Register.

Background and Purpose

Maryland Department of Transportation—State Highway Administration (MDOT) owns and operates the bascule span of the U.S. 50 Bridge, at mile 0.5, across Isle of Wight Bay (Sinepuxent Bay) in Ocean City, MD. The bridge has a vertical clearance in the closed position to vessels of 13 feet, above mean high water (vertical clearance at center of channel increased by five feet). The current regulations are outlined at 33 CFR 117.559, which require the bridge to open on signal except: from October 1 through April 30 from 6 p.m. to 6 a.m., the draw shall open if at least three hours notice is given and from May 25 through September 15 from 9:25 a.m. to 9:55 p.m. the draw shall open at 25 minutes after and 55 minutes after the hour for a maximum of five minutes to let accumulated vessels pass, except that, on Saturdays from 1 p.m. to 5 p.m., the draw shall open on the hour for all waiting vessels and shall remain in the open position until all waiting vessels pass.

The Office of Bridge Inspection and Remedial Engineering, a division under MDOT, has requested a change to the existing operating drawbridge regulations to accommodate the necessary repairs. The repairs include replacing the existing north and south pinion/bull gear sets in the west bascule leaf and replacing the existing grid deck in the bascule span. To facilitate the repairs, the drawbridge will be locked in the closed-to-navigation position from 8 a.m. on Monday, January 7, 2008 until and including 5 p.m. on Thursday, February 21, 2008.

Information provided by MDOT indicates that during the winter months, in January and February, the bridge has an opening frequency of five openings per month. Vessel operators with mast height lower than 13 feet still can transit through the drawbridge across Isle of Wight Bay (Sinepuxent Bay) during the rehabilitation. The project will also require a small barge, measuring 8 feet x 27 feet, for the gear removal/grid deck installation. The barge will only be needed for a six-day period and removed at the end of each procedure at the end of each day. However, the barge can be removed during an emergency at any time. Also, the Atlantic Ocean is an alternate route for vessels with a mast height greater than 13 feet. Therefore, vessels should not be negatively impacted by this proposal.

Discussion of Proposed Rule

The Coast Guard proposes to suspend the operating regulations at 33 CFR 117.559 for the US 50 Bridge at mile 0.5, in Ocean City, Maryland from 8 a.m. on January 7, 2008, through 5 p.m. on February 21, 2008. During this suspension period, the Coast Guard proposes to implement temporary operating regulations for this bridge. The proposed temporary regulations will state that the bridge need not be opened by the bridge operator, Maryland Department of Transportation—State Highway Administration, during this period.

Regulatory Evaluation

This proposed rule is not a “significant regulatory action” under section 3(f) of Executive Order 12866, Regulatory Planning and Review, and does not require an assessment of potential costs and benefits under section 6(a)(3) of that Order. The Office of Management and Budget has not reviewed it under that Order. We expect the economic impact of this proposed rule to be so minimal that a full Regulatory Evaluation is unnecessary.

Due to the historical average number of bridge openings during this time period, the proposed changes would have only a minimal impact on maritime traffic seeking to transit the bridge. Vessel operators with mast height lower than 13 feet still can transit through the drawbridge across Isle of Wight Bay (Sinepuxent Bay) during the rehabilitation. Also, the Atlantic Ocean is an alternate route for vessels with a mast height greater than 13 feet who cannot transit under the bridge during this period.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: owners and operators of vessels with over 13 feet of mast height seeking to transit the bridge between 8 a.m. on January 7, 2008, through 5 p.m. on February 21, 2008. This proposed rule would not have a significant economic impact on a substantial number of small entities because vessel operators with mast height lower than 13 feet still can transit through the drawbridge. The Atlantic Ocean is an alternate route for vessels with a mast height greater than 13 feet. Additionally, before the effective period of this rule, public notice will be promulgated so mariners can adjust their plans accordingly.

If you think that your business, organization, or governmental jurisdiction qualifies as a small entity and that this proposed rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking process. If the rule would affect your small business, organization, or governmental jurisdiction and you have questions concerning its provisions or options for compliance, please contact Waverly W. Gregory, Jr., Bridge Administrator, Fifth Coast Guard District, (757) 398-6222. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to security that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.1D, and Department of Homeland Security Management Directive 5100.1, which guides the Coast Guard in complying with the National Environmental Policy Act of 1969 (NEPA) (42 U.S.C. 4321-4370f), and have made a preliminary determination that there are no factors in this case that would limit the use of a categorical exclusion under section 2.B.2 of the Instruction. Therefore, we believe that this rule should be categorically excluded, under figure 2-1, (32)(e), of the Instruction, from further environmental documentation. Under figure 2-1, paragraph (32)(e), an “Environmental Analysis Check List” and a “Categorical Exclusion Determination” are not required for this rule. Comments on this section will be considered before we make the final decision on whether to categorically exclude this rule from further environmental review.

List of Subjects in 33 CFR Part 117

Bridges.

For the reasons discussed in the preamble, the Coast Guard proposes to temporarily amend 33 CFR part 117 as follows:

PART 117—DRAWBRIDGE OPERATION REGULATIONS

1. The authority citation for part 117 continues to read as follows:

Authority: 33 U.S.C. 499; 33 CFR 1.05-1(g); Department of Homeland Security Delegation No. 0170.1.

2. From 8 a.m. on January 7, 2008 through 5 p.m. on February 21, 2008, temporarily designate the regulatory text in § 117.559 as paragraph (a), temporarily suspend newly designated paragraph (a), and temporarily add paragraph (b) to read as follows:

§ 117.559 Isle of Wight Bay.

* * * * *

(b) From 8 a.m. on January 7, 2008 through 5 p.m. on February 21, 2008, the draw of the U.S. 50 Bridge, mile 0.5, at Ocean City, need not be opened.

Dated: October 24, 2007.
Fred M. Rosa, Jr.,
Rear Admiral, United States Coast Guard, Commander, Fifth Coast Guard District.

[FR Doc. E7-21882 Filed 11-7-07; 8:45 am]

BILLING CODE 4910-15-P